DEPARTMENT OF THE INTERIOR

Bureau of Land Management

[LLWO200000/LXSGPL000000/17x/L11100000.PH0000]

Notice of Intent To Amend Land Use Plans Regarding Greater Sage-Grouse Conservation and Prepare Associated Environmental Impact Statements or Environmental Assessments

AGENCY: Bureau of Land Management, Interior.

ACTION: Notice of intent.

SUMMARY: On March 31, 2017, the United States District Court for the District of Nevada held that the Bureau of Land Management (BLM) violated the National Environmental Policy Act of 1969, as amended, (NEPA) by failing to prepare a supplemental Environmental Impact Statement (EIS) for the designation of Sagebrush Focal Areas (SFA) in the Nevada and Northeastern California Greater Sage-Grouse Resource Management Plan (RMP) Amendment in Nevada. In order to comply with the court's order and to address issues raised by various interested parties, the BLM intends to consider the possibility of amending some, all or none of the BLM land use plans that were amended or revised in 2014 and 2015 regarding Greater Sage-Grouse conservation in the States of California, Colorado, Idaho, Nevada, Oregon, Wyoming, North Dakota, South Dakota, Utah and Montana (“2015 Sage-Grouse Plans”). By this Notice the BLM is announcing the beginning of the scoping process to solicit public comments on Greater Sage-Grouse land management issues that could warrant land use plan amendments.

DATES: This Notice initiates the public scoping process for RMP amendment(s) with associated NEPA document(s). Comments may be submitted in writing until November 27, 2017. The date(s) and location(s) of any scoping meetings will be announced at least 15 days in advance through local news media, newspapers and the BLM Web site at: http://bit.ly/GRSGplanning. In order to be included in the analysis, all comments must be received prior to the close of the 45-day scoping period or 15 days after the last public meeting, whichever is later. We will provide additional opportunities for public participation as appropriate.

ADDRESSES: You may submit comments on issues and planning criteria related to amending land use plans regarding Greater Sage-Grouse conservation to the BLM Web site at: http://bit.ly/GRSGplanning or to one of the addresses listed in the SUPPLEMENTARY INFORMATION section below. If your comments are specific to an individual State or region, please specify that in your comments.

Documents pertinent to this proposal may be examined at the addresses listed below in SUPPLEMENTARY INFORMATION.

FOR FURTHER INFORMATION CONTACT: Johanna Munson in the BLM-Idaho State Office at (208) 373-7834, email BLM_sagegrouseplanning@blm.gov, or mail 1387 South Vinnell Way, Boise, ID 83708. For a list of local BLM contacts, please see the SUPPLEMENTARY INFORMATION section below. Persons who use a telecommunications device for the deaf (TDD) may call the Federal Relay Service (FRS) at 1-800-877-8339 to contact the above individuals during normal business hours. The FRS is available 24 hours a day, 7 days a week, to leave a message or question with the above individual. You will receive a reply during normal business hours.

SUPPLEMENTARY INFORMATION: On March 31, 2017, the United States District Court for the District of Nevada held that the BLM violated NEPA by failing to prepare a supplemental EIS for the designation of SFAs in the 2015 Greater Sage-Grouse Plan in Nevada. Similar claims were raised in other lawsuits that have not been decided. The BLM also recognizes that the 2015 Greater Sage-Grouse Plans blended elements from among the action alternatives analyzed through the NEPA process for those decisions. In order to comply with the court's order, to address issues raised by various interested parties, and to consider recommendations in the August 4, 2017, report prepared by the Department of the Interior's Greater Sage-Grouse Review Team in Response to Secretary's Order 3353 (SO 3353), the BLM seeks comment on the SFA designation, mitigation standards, lek buffers in all habitat management area types, disturbance and density caps, habitat boundaries to reflect new information, and reversing adaptive management responses when the BLM determines that resource conditions no longer warrant those responses. The BLM also seeks comment on State-specific issues, such as the need for General Habitat Management Areas in Utah, and other issues identified by State, tribal, and local governments. The BLM also seeks input on planning criteria, which include compliance with laws and regulations and adequacy of Greater Sage-Grouse conservation measures in the land use plans. Any RMP amendment(s) with associated NEPA document(s)—EISs or Environmental Assessments (EAs)—developed will be completed in compliance with NEPA and the Federal Land Policy and Management Act of 1976, as amended.

The BLM coordinated with the Sage Grouse Task Force to develop the SO 3353 report and continues to identify issues that warrant clarification or reconsideration. This coordination effort is continuing and will help to inform the BLM's implementation of SO 3353 in each State, as will input from other stakeholders. This Notice and potential planning effort does not preclude the BLM from addressing issues and inconsistencies through other means, including policy, training, or plan maintenance, nor does it commit the BLM to amending some, all, or none of the Greater Sage-Grouse plans. In addition to comments on the issues and planning criteria, the BLM would like to receive input on whether the planning effort should occur through state-by-state amendment processes and decisions. In particular, the BLM looks forward to receiving the comments of the Governors of each state, and will strive to accommodate those comments to the extent practicable given prior collaborative efforts.

You may submit comments in writing to the BLM at any public scoping meeting, or you may submit them to the BLM using the method listed in the ADDRESSES section. You should submit comments by the close of the 45-day scoping period or within 15 days after the last public meeting, whichever is later.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The following is a list of BLM contacts and the BLM offices where documents may be examined:

California: Jeremiah Karuzas; telephone: 916-978-4644; email: jkaruzas@blm.gov; 2800 Cottage Way Sacramento, CA 95825.

Colorado: Bridget Clayton; telephone: 970-244-3045; email: bclayton@blm.gov; 2815 H Road, Grand Junction, CO 81506.

Idaho: Ammon Wilhelm; telephone: 208-373-3824; email: awilhelm@blm.gov; 1387 S Vinnell Way, Boise, ID 83708.

Nevada: Matt Magaletti; telephone: 775-861-6472; email: mmagalet@blm.gov; 1340 Financial Blvd., Reno, NV 89502.

Montana/Dakotas: John Carlson; telephone: 406-896-5024; email: jccarlso@blm.gov; 5001 Southgate Drive, Billings, MT 59101.

Oregon: Molly Anthony; telephone: 503-808-6052; email: manthony@blm.gov; 1220 South West 3rd Avenue, Portland, OR 97204.

Utah: Quincy Bahr; telephone: 801-539-4122; email: qfbahr@blm.gov; 440 West 200 South Suite 500, Salt Lake City, UT 84101.

Wyoming: Erica Husse; telephone: 307-775-6318; email: ehusse@blm.gov; 5353 Yellowstone Road, Cheyenne, WY 82009.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so. The BLM will evaluate identified issues to be addressed in the plan, and will place them into one of three categories:

1. Issues to be resolved in the plan amendment(s);

2. Issues to be resolved through policy or administrative action; or

3. Issues beyond the scope of the plan amendment(s).

The public is encouraged to help identify any issues, management questions, or concerns that should be addressed in the plan amendment(s). The BLM will work collaboratively with interested parties to identify the management decisions that are best suited to local, regional, and national needs and concerns.

The BLM will use an interdisciplinary approach to develop the plan amendment(s) in order to consider the variety of resource issues and concerns identified.

Authority: 40 CFR 1501.7 and 43 CFR 1610.2.

Michael D. Nedd,
Acting BLM Director.

[FR Doc. 2017-21958 Filed 10-10-17; 8:45 am]

BILLING CODE 4310-84-P